DEPARTMENT OF AGRICULTURE

Forest Service

Notice of Proposed New Fee Sites; Federal Lands Recreation Enhancement Act (Title VIII, Pub. L. 108-447)

AGENCY: Salmon-Challis National Forest, USDA Forest Service.

ACTION: Notice of Proposed New Fee Sites.

SUMMARY: The Salmon-Challis National Forest is planning to charge fees at eleven recreation sites. All sites have recently been reconstructed or amenities are being added to improve services and experiences. Fees are assessed based on the level of amenities and services provided, cost of operation and maintenance, market assessment, and public comment. The fees listed are only proposed and will be determined upon further analysis and public comment. Funds from fees would be used for the continued operation and maintenance of these recreation sites.

Custer #1, Flat Rock Extension and Blind Creek Campgrounds are currently fee free sites. Improvements have been made including designating campsites, installing fire rings, picnic tables and new toilets in 2007. Improvements will address sanitation and safety concerns, and improve deteriorating resource conditions and recreation experiences. Mosquito Flat Reservoir, Mill Creek (Lost River RD), Broad Canyon, Lake Creek, Banner Creek, Mount Borah, Bench Creek and Big Eightmile campgrounds contain the necessary site amenities to be eligible for fee collection. A financial analysis is being completed to determine fee rates. The proposed fee to help maintain these sites would range between $5 and $10 a campsite.

DATES: New fees would begin after April 2009 and are contingent upon completion of certain improvements.

ADDRESSES: Forest Supervisor, Salmon-Challis National Forest, 1206 South Challis Street, Salmon, Idaho 83467.

FOR FURTHER INFORMATION CONTACT: Patricia Callaghan, Recreation Planner, 208-756-5115. Information about proposed fee changes can also be found on the Salmon-Challis National Forest Web site: http://www.fs.fcd.us/r4/sc/recreationlfeedemo/index.shtml.

SUPPLEMENTARY INFORMATION: The Federal Recreation Lands Enhancement Act (Title VII, Pub. L. 108-447) directed the Secretary of Agriculture to publish a six month advance notice in the Federal Register whenever new recreation fee areas are established. Once public involvement is complete, these new fees will be reviewed by a Recreation Resource Advisory Committee prior to a final decision and implementation.

Dated: July 1, 2008.
Larry A. Svalberg,
Operations Staff Officer.

[FR Doc. E8-15553 Filed 7-10-08; 8:45 am]

BILLING CODE 3410-11-M